DEPARTMENT OF HOMELAND SECURITY

Coast Guard

33 CFR Part 117

[Docket No. USCG-2020-0052]

Drawbridge Operation Regulation; Long Creek, Nassau, NY

AGENCY: Coast Guard, DHS.

ACTION: Notice of temporary deviation from regulations; request for comments.

SUMMARY: The Coast Guard has issued a temporary test deviation from the operating schedule that governs the Loop Parkway Bridge across Long Creek, mile 0.7 at Nassau, New York. This deviation will test a change to the drawbridge operation schedule to determine if the proposed operating schedule changes will meet the reasonable needs of maritime traffic and vehicular traffic. Coast Guard is seeking comments from the public about the impact to both train and vessel traffic generated by this change.

DATES:

Effective date: This deviation is effective without actual notice from March 17, 2020 through 11:59 p.m. on July 27, 2020. For purposes of enforcement actual notice will be used from12:01 a.m. on January 30, 2020, until March 17, 2020.

Comment date: Comments and related material must reach the Coast Guard on or before April 16, 2020.

ADDRESSES: You may submit comments identified by docket number USCG-2020-0052 using Federal e-Rulemaking Portal at http://www.regulations.gov.

See the “Public Participation and Request for Comments” portion of the SUPPLEMENTARY INFORMATION section below for instructions on submitting comments.

FOR FURTHER INFORMATION CONTACT: If you have questions on this temporary deviation, call or email Ms. Stephanie E. Lopez, First Coast Guard District, Project Officer, telephone 212-514-4335, email Stephanie.E.Lopez@uscg.mil.

SUPPLEMENTARY INFORMATION:

Table of Abbreviations

CFR Code of Federal Regulations

DHS Department of Homeland Security

FR Federal Register

I. Background, Purpose and Legal Basis

The Loop Parkway Bridge at mile 0.7, across Long Creek, Nassau, New York, has a vertical clearance of 21 feet at mean high water and 25 at mean low water. Horizontal clearance is approximately 75.5 feet. The waterway users include recreational and commercial vessels including fishing vessels. The existing drawbridge operating regulations are listed at 33 CFR 117.799(f).

In 2005, the owner of the bridge, New York State Department of Transportation, requested a temporary test deviation for an alternate drawbridge operation regulation; however, it was never followed up with a rulemaking. The bridge owner assumed since the temporary deviation was a success they made new signage reflecting the temporary deviation and have been operating the bridge under this temporary deviation for the past 15 years. After a recent construction operation the bridge operator began operating the bridge under the original 2005 regulation and USCG Sector Long Island Sound received several complaints from mariners who were upset the bridge was no longer operating under the old temporary test deviation. Based on the data that was provided by the bridge owner, the number of requested bridge openings has decreased over the years, while the vehicular traffic has increased. The schedule restricts bridge openings during vehicular rush hours allowing openings twice per hour. This schedule allows less congestion build up for vehicular traffic while providing mariners with a reliable, consistent time they can request a bridge opening. The Coast Guard is publishing this temporary deviation to test the proposed change to the bridge's operating schedule and determine whether a permanent change to the schedule is necessary to better balance the needs of marine and rail traffic.

Under this deviation, commercial vessels engaged in commerce, the draw shall open Monday thru Friday from 6:20 a.m. to 9:50 a.m. and 3:20 p.m. to 7:20 p.m. on signal at 20 and 50 minutes after the hour, and on signal at all other times. For all other vessels, the draw shall open on Monday thru Friday from 6:20 a.m. to 7:20 p.m. on signal at 20 and 50 minutes after the hour, and the draw shall open on Saturday, Sunday and Federal holidays from 7:20 a.m. to 8:20 p.m. on signal at 20 and 50 minutes after the hour, and on signal at all other times. The reason for these changes is to minimize excessive bridge openings which were a direct cause of accelerated deterioration of the bridge.

Vessels able to pass through the bridge in the closed position may do so at any time. There are no alternate routes. The bridge will be able to open for emergencies.

The Coast Guard will also inform the users of the waterways through our Local and Broadcast Notices to Mariners of the change in operating schedule for the bridge so that vessel operators can arrange their transits to minimize any impact caused by the temporary deviation.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacynotice.

Documents mentioned in this notification as being available in this docket and all public comments, will be in our online docket at http://www.regulations.gov and can be viewed by following that website's instructions. Additionally, if you go to the online docket and sign up for email alerts, you will be notified when comments are posted or a final rule is published.

Dated: March 10, 2020.
C.J. Bisignano,
Supervisory Bridge Management Specialist, First Coast Guard District.

[FR Doc. 2020-05140 Filed 3-16-20; 8:45 am]

BILLING CODE 9110-04-P